DEPARTMENT OF THE TREASURY

Internal Revenue Service

26 CFR Part 1

[REG-143321-02]

RIN 1545-BB60

Information Reporting Relating to Taxable Stock Transactions; Hearing

AGENCY: Internal Revenue Service (IRS), Treasury.

ACTION: Cancellation of notice of public hearing on proposed rulemaking.

SUMMARY: This document provides notice of cancellation of a public hearing on proposed regulations by cross-reference to temporary regulations relating to information reporting to taxable stock under section 6043(c) of the Internal Revenue Code.

DATES: The public hearing originally scheduled for Tuesday, March 25, 2003, at 10 a.m., is cancelled.

FOR FURTHER INFORMATION CONTACT: Treena Garrett of the Regulations Unit, Associate Chief Counsel (Procedure and Administration) (202) 622-7180 (not a toll-free number).

SUPPLEMENTARY INFORMATION: A notice of proposed rulemaking by cross-reference to temporary regulations and notice of public hearing (REG-143321-02), was published originally in the Federal Register on Monday, November 18, 2002 (67 FR 69496). Subsequently, a notice changing the date of the hearing was published on Wednesday, November 27, 2002 (67 FR 70891). This notice announced that a public hearing on proposed regulations relating to information reporting to taxable stock transactions under sections 6043(c) and 6045 of the Internal Revenue Service Code would be held on Tuesday, March 25, 2003, beginning at 10 a.m. in room 4718 of the Internal Revenue Building, 1111 Constitution Avenue, NW., Washington, DC. The public comment period for these proposed regulations expired on Tuesday, February 18, 2003. Outlines of oral comments were due on Tuesday, March 4, 2003.

The notice of proposed rulemaking and notice of public hearing, instructed those interested in testifying at the public hearing to submit a request to speak and an outline of the topics to be addressed. As of Tuesday, March 11, 2003, no one has requested to speak. Therefore, the public hearing scheduled for Tuesday, March 25, 2003, is cancelled.

Cynthia E. Grigsby,
Chief, Regulations Unit, Associate Chief Counsel (Procedure and Administration).

[FR Doc. 03-6598 Filed 3-18-03; 8:45 am]

BILLING CODE 4830-01-P